DEPARTMENT OF ENERGY

Agency Information Collection Extension

AGENCY: Department of Energy.

ACTION: Submission for Office of Management and Budget (OMB) review; comment request.

SUMMARY: The Department of Energy (DOE) has submitted an information collection package to the OMB for extension under the provisions of the Paperwork Reduction Act of 1995. The package requests a three-year extension of its Certification of Compliance whereby a manufacturer or private labeler reports on and certifies its compliance with energy efficiency standards for certain 1 through 200 horsepower electric motors under Title 10 Code of Federal Regulations Part 431—Energy Efficiency Program for Certain Commercial and Industrial Equipment: Appendix A to Subpart G of Part 431: Certification of Compliance with Energy Efficiency Standards for Electric Motors, OMB Control Number 1910-5104. This information collection package provides a format for a manufacturer or private labeler to certify compliance with the energy efficiency standards prescribed at section 342(b)(1) of EPCA, 42 U.S.C. 6313(b)(1), and covers information necessary for the Department of Energy and United States Customs Service officials to facilitate voluntary compliance with and enforcement of the energy efficiency standards established for electric motors under EPCA sections 342(b)(1), 42 U.S.C. 6313(b)(1).

DATES: Comments regarding this collection must be received on or before August 16, 2004. If you anticipate that you will be submitting comments, but find it difficult to do so within the period of time allowed by this notice, please advise the OMB Desk Officer of your intention to make a submission as soon as possible. The Desk Officer may be telephoned at 202-395-7345.

ADDRESSES: Written comments should be sent to: DOE Desk Officer, Office of Information and Regulatory Affairs, Office of Management and Budget, New Executive Office Building, Room 10102, 735 17th Street, NW., Washington, DC 20503.

Comments should also be addressed to:

Susan L. Frey, Director, Records Management Division, IM-11/Germantown Bldg., Office of the Chief Information Officer, U.S. Department of Energy, 1000 Independence Ave SW., Washington, DC 20585-1290, and to

Mr. James Raba, U.S. Department of Energy, Building Technologies Program, Mailstop EE-2J, 1000 Independence Avenue, SW., Washington, DC 20585-0121 or by fax at (202) 586-4617 or by e-mail at jim.raba@ee.doe.gov.

FOR FURTHER INFORMATION CONTACT: Requests for additional information or copies of the information collection instrument and instructions should be directed to Susan L. Frey and Jim Raba as listed in ADDRESSES above.

SUPPLEMENTARY INFORMATION: This package contains: (1) OMB No.: 1910-5104; (2) Package Title: Title 10 Code of Federal Regulations Part 431—Energy Efficiency Program for Certain Commercial and Industrial Equipment: Appendix A to Subpart G of Part 431: Certification of Compliance with Energy Efficiency Standards for Electric Motors (3) Purpose: Regulations that, in part, (1) require the manufacturer or private labeler of any electric motor subject to energy efficiency standards prescribed under section 342 of EPCA, as amended, to establish, maintain and retain records of its test data and subsequent verification of any alternative efficiency determination method used under Part 431, and (2) preclude distribution in commerce of any basic model of an electric motor which is subject to an energy efficiency standard set forth under subpart G of Part 431, unless it has submitted a Compliance Certification to the Department according to the provisions under section 431.123 of Part 431, that the basic model meets the requirements of the applicable standard. This collection of information ensures compliance with the energy efficiency requirements for motors. (4) Estimated Number of Respondents: 56 (5) Estimated Total Burden Hours: 16,800 (6) Number of Collections: The package contains 1 information and/or recordkeeping requirement.

Statutory Authority: Part C of Title III of the Energy Policy and Conservation Act (EPCA) of 1975, Pub. L. 94-163, as amended.

Issued in Washington, DC on July 9, 2004.
Susan L. Frey,
Director, Records Management Division, Office of the Chief Information Officer.

[FR Doc. 04-16064 Filed 7-14-04; 8:45 am]

BILLING CODE 6450-01-P